DEPARTMENT OF THE TREASURY

Submission for OMB Review; Comment Request

March 28, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before May 8, 2000 to be assured of consideration.

Internal Revenue Service (IRS)

OMB Number: 1545-0714.

Form Number: IRS Forms 8027 and 8027-T.

Type of Review: Extension.

Title: Employer's Annual Information Return of Tip Income and Allocated Tips (Form 8027); and Transmittal of Employer's Annual Information Return of Tip Income and Allocated Tips (Form 8027-T).

Description: To help IRS in its examination of return filed by tipped employees, large food or beverage establishments are required to report annually information concerning food or beverage operations receipts, tips reported by employees, and in certain cases, the employer must allocate tips to certain employees.

Respondents: Business or other for-profit, Individuals or households, Not-for-profit institutions, State, Local or Tribal Government

Estimated Number of Respondents/Recordkeepers: 52,050.

Estimated Burden Hours Per Respondent/Recordkeeper:

Form | Recordkeeping | Learning about the law or the form | Preparing, and sending the form to the IRS
8027 | 5 hr., 59 min | 53 min | 1 hr., 2 min.
8027-T | 43 min | 0 min | 1 min.

Frequency of Response: Annually.

Estimated Total Reporting/Recordkeeping Burden: 392,986 hours.

OMB Number: 1545-1666.

Regulation Project Number: REG-116048-99 NPRM and Temporary.

Type of Review: Extension.

Title: Stock Transfer Rules, Supplemental Rules.

Description: These regulations provide rules governing income recognition upon the occurrence of a section 367(b) transaction. Specifically, they provide certain elections for a taxpayer to limit its income inclusion.

Respondents: Business or other for-profit, Farms.

Estimated Number of Respondents: 20.

Estimated Burden Hours Per Respondent: 4 hours, 15 minutes.

Frequency of Response: Annually.

Estimated Total Reporting Burden: 85 hours.

Clearance Officer: Garrick Shear, Internal Revenue Service, Room 5244, 1111 Constitution Avenue, NW., Washington, DC 20224.

OMB Reviewer: Alexander T. Hunt (202) 395-7860, Office of Management and Budget, Room 10202, New Executive Office Building, Washington, DC 20503.

Lois K. Holland,
Departmental Reports, Management Officer.

[FR Doc. 00-8418 Filed 4-5-00; 8:45 am]

BILLING CODE 4830-01-P